DEPARTMENT OF AGRICULTURE

Forest Service

Forest Inventory and Analysis (FIA) Helicopter Use in Wilderness; Environmental Impact Statement

AGENCY: Forest Service, USDA.

ACTION: Notice of intent to prepare an Environmental Impact Statement.

SUMMARY: The Department of Agriculture, Forest Service, will prepare an Environmental Impact Statement (EIS) for Forest Inventory and Analysis (FIA) Helicopter Use in Wilderness. The Alaska Region and Pacific Northwest (PNW) Research Station are proposing to inventory 913 plots in wilderness areas over a 10-year span, with about 540 plots accessed by helicopter and 373 plots accessed by day hiking. Inventory protocol includes completing 10 percent of the plots each year. This means that approximately 91 plots will be inventoried each year. Of these 91 plots, about 54 plots will be accessed by helicopter. Each inventory plot accessed by helicopter will require two landings. In any given year, these 54 plots will spread out across 7.8 million acres in 19 wilderness areas on the Tongass National Forest and one wilderness study area on the Chugach National Forest.

DATES: To be most useful, comments should be received within 30 days of this notice. A draft EIS is planned to be available for comment in April 2006, with a final EIS anticipated by September 2006.

ADDRESSES: Written comments may be sent to the USDA Forest Service, Alaska Regional Office, Ecosystem Planning Staff, ATTN: Forest Inventory and Analysis (FIA) Helicopters in Wilderness EIS, P.O. Box 21628, Juneau, AK 99802-1628. Comments may also be sent via facsimile to (907) 586-7852 or via E-mail to: Comments-alaska-regional-office@fs.fed.us.

FOR FURTHER INFORMATION CONTACT: Ken Post, IDT Leader, Alaska Regional Office, Ecosystem Planning Staff, (907) 586-8796.

SUPPLEMENTARY INFORMATION:

Background

The proposed project encompasses 19 wilderness areas on the Tongass National Forest and the Nellie Juan—College Fiord wilderness study area (WSA) on the Chugach National Forest. The Chugach National Forest Plan states that the WSA is to be managed to maintain and protect the existing (1984) wilderness character. A Minimum Requirement Decision Guide (MRDG) was completed in 2005. Based on the analysis in the MRDG, the Regional Forester determined that helicopters were the minimum tool needed to accomplish the inventory on some of the plots.

Public Participation

Public participation has been an integral component of the study process and will continue to be especially important at several points during the analysis. The Forest Service has already begun a consultation process with Tribal Governments and will be seeking information, comments, and assistance from Federal, State, and local agencies, individuals and organizations who may be interested in, or affected by, the proposed activities. Issues identified so far for analysis in the EIS include: The use and noise from helicopters accessing plots could compromise the area's wilderness character and visitor experience; the noise from helicopters accessing plots could impact wildlife; accessing all the sites on foot would expose the employees to potential injury while traveling in the steep, wet terrain with heavy packs.

Based on results of scoping to date, six alternatives have been identified that range from no helicopter access to helicopter access for all the inventory plots. All comments received are being considered in the analysis including comments received prior to this notice. No formal meetings are planned at this time.

The comment period on the draft EIS will be 45 days from the date of the Environmental Protection Agency publishes the Notice of Availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553, (1978). Environmental objections that could have been raised at the draft environmental impact statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns of the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this proposed action and will be available for public inspection. Comments submitted anonymously will be accepted and considered; however, those who submit anonymous comments will not have standing to appeal the subsequent decision under 36 CFR Part 215. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within seven days.

Responsible Official: Dennis E. Bschor, Regional Forester, Alaska Region, Juneau, Alaska, is the responsible official.

Dated: January 27, 2006.
Beth Giron Pendleton,
Acting Regional Forester.

[FR Doc. 06-1002 Filed 2-2-06; 8:45 am]

BILLING CODE 3410-11-M